FEDERAL COMMUNICATIONS COMMISSION

[OMB 3060-0291]

Information Collection Being Reviewed by the Federal Communications Commission Under Delegated Authority

AGENCY: Federal Communications Commission.

ACTION: Notice and request for comments.

SUMMARY: As part of its continuing effort to reduce paperwork burdens, and as required by the Paperwork Reduction Act (PRA) of 1995, the Federal Communications Commission (FCC or Commission) invites the general public and other Federal agencies to take this opportunity to comment on the following information collections. Comments are requested concerning: Whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees.

The FCC may not conduct or sponsor a collection of information unless it displays a currently valid OMB control number. No person shall be subject to any penalty for failing to comply with a collection of information subject to the PRA that does not display a valid OMB control number.

DATES: Written PRA comments should be submitted on or before April 3, 2017. If you anticipate that you will be submitting comments, but find it difficult to do so within the period of time allowed by this notice, you should advise the contact listed below as soon as possible.

ADDRESSES: Direct all PRA comments to Cathy Williams, FCC, via email PRA@fcc.gov and to Cathy.Williams@fcc.gov.

FOR FURTHER INFORMATION CONTACT: For additional information about the information collection, contact Cathy Williams at (202) 418-2918.

SUPPLEMENTARY INFORMATION: As part of its continuing effort to reduce paperwork burdens, and as required by the Paperwork Reduction Act (PRA) of 1995 (44 U.S.C. 3501-3520), the Federal Communications Commission (FCC or Commission) invites the general public and other Federal agencies to take this opportunity to comment on the following information collections. Comments are requested concerning: Whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees.

OMB Control Number: 3060-0291.

Title: Section 90.477(a), (b)(2), (d)(2), and (d)(3), Interconnected Systems.

Form No.: N/A.

Type of Review: Extension of a currently approved collection.

Respondents: Business or other for-profit, not-for-profit institutions and state, local or tribal government.

Number of Respondents: 527 respondents; 527 responses.

Estimated Time per Response: .25 hours—2 hours.

Frequency of Response: On occasion reporting requirement, recordkeeping requirement and third party disclosure requirement.

Obligation To Respond: Required to obtain or retain benefits. Statutory authority for this information collection is contained in 47 U.S.C. 332(a).

Total Annual Burden: 176 hours.

Total Annual Cost: None.

Privacy Act Impact Assessment: No impact(s).

Nature and Extent of Confidentiality: There is no need for confidentiality with this collection of information.

Needs and Uses: The information collection requirements which govern interconnection of private land mobile radio service stations with the public switched telephone network are contained in 47 CFR 90.477(a) which requires that licensees of interconnected land stations maintain as part of their station records a detailed description of how interconnection is accomplished. The information collection requirements contained in 47 CFR 90.477(b)(2) and (d)(2) require that at least one licensee participating in any cost sharing arrangement for telephone service must maintain cost sharing records, the costs must be distributed at least once a year, and a report of the distribution must be placed in the licensee's station records and made available to participants in the sharing arrangement and the Commission upon request. The information collection requirements contained in 47 CFR 90.477(d)(3) require that licensees in the Industrial/Business Pool and those licensees who establish eligibility pursuant to 90.20(a)(2), other than persons or organizations charged with specific fire protection activities, persons or organizations charged with specific forestry-conservation activities, or medical emergency systems in the 450-470 MHz band, and who seek to connect within 120 km (75 miles) of 25 cities specified in 90.477(d)(3), must obtain the consent of all co-channel licensees located both within 120 km of the center of the city, and with 120 km of the interconnected base station transmitter. Consensual agreements must specifically state the terms agreed upon and a statement must be submitted to the Commission indicating that all co-channel licensees have consented to the use of interconnection.

In a December 1998 Report and Order in WT Docket Nos. 98-20 and 96-188, the Commission consolidated, revised and streamlined the Commission's rules governing the licensing application procedures for radio services licensed by the Commission's Wireless Telecommunications Bureau in order to fully implement the Universal Licensing System (ULS). As a result of the ULS rule conversions in connection with this information collection requirements contained in 47 CFR 90.477(a), interconnected systems now file all information (100 percent). Section 90.477(d)(3), interconnected systems were changed to reflect NAD83 coordinates.

Federal Communications Commission.
Katura Howard,
Federal Register Liaison Officer, Office of the Secretary.

[FR Doc. 2017-02094 Filed 1-31-17; 8:45 am]

BILLING CODE 6712-01-P